DEPARTMENT OF ENERGY

Federal Energy Regulatory Commission

[ Project No. 1651-060]

Lower Valley Energy; Notice of Application for Amendment of License and Soliciting Comments, Motions To Intervene, and Protests

Take notice that the following hydroelectric application has been filed with the Commission and is available for public inspection:

a. Application Type: License article amendment.

b. Project No: 1651-060.

c. Date Filed: July 22, 2011.

d. Applicant: Lower Valley Energy.

e. Name of Project: Swift Creek Hydroelectric Project.

f. Location: The Swift Creek Project is located on Swift Creek, a tributary of the Salt River, east of the town of Afton in Lincoln County, Wyoming. The project consists of an upper and lower development each of which has a dam and powerhouse.

g. Filed Pursuant to: Federal Power Act, 16 USC 791a-825r.

h. Applicant Contact: Mr. Wade Hirschi, Compliance Officer, Lower Valley Energy, P.O. Box 188, Afton, WY 83110, 307-885-3175.

i. FERC Contact: Mr. Robert Ballantine at 202-502-6289, or robert.ballantine@ferc.gov

j. Deadline for filing comments, motions to intervene, and protest: October 31, 2011.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street, NE., Washington, DC 20426. Commenters can submit brief comments up to 6,000 characters, without prior registration, using the eComment system at http://www.ferc.gov/docs-filing/ecomment.asp. You must include your name and contact information at the end of your comments. Please include the project number (P-1651-060) on any comments, motions, or recommendations filed.

k. Description of Request: Lower Valley Energy, licensee for the Swift Creek Hydroelectric Project, requests the Commission to amend license Article 408, which, in part, requires a minimum flow release or project inflow, whichever is less, from both of the dams into Swift Creek from 20 cubic feet per second (cfs) during daylight hours from May 1 through September 30 to 5 cfs at all times. Article 408 already requires 5 cfs from October 1 through April 30 at all times (24 hours). Therefore, minimum flow release would be 5 cfs year round. Amendment of Article 408 would also make Article 409 obsolete. Article 409 requires the licensee to limit the rate of change in river flow (ramping rate) at the project when increasing flows from 5 cfs to 20 cfs and when decreasing flows from 20 cfs to 5 cfs. If an amendment to Article 408 is approved, no changes in minimum flow would occur and no ramping of the project would be necessary.

l. Locations of the Application: A copy of the application is available for inspection and reproduction at the Commission's Public Reference Room, located at 888 First Street, NE., Room 2A, Washington, DC 20426, or by calling 202-502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 866-208-3676 or e-mail FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) Bear in all capital letters the title “Comments”, “Protest”, or “Motion to Intervene” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: September 29, 2011.
Kimberly D. Bose,
Secretary.

[FR Doc. 2011-25835 Filed 10-5-11; 8:45 am]

BILLING CODE 6717-01-P